DEPARTMENT OF HOMELAND SECURITY

Coast Guard

33 CFR Part 165

[CGD13-05-027]

RIN 1625-AA00

Safety Zones: Fireworks Displays in the Captain of the Port Portland Zone

Correction

In rule document 05-17473 beginning on page 52308 in the issue of Friday, September 2, 2005, make the following correction:

On page 52308, in the second column, the information in the DATES section is corrected to read as follows: “The new effective period of rule §165.T13-009 is from 9:30 on August 6, 2005 to 11:00 p.m. on September 17, 2005”.

[FR Doc. C5-17473 Filed 9-13-05; 8:45 am]

BILLING CODE 1505-01-D